NUCLEAR REGULATORY COMMISSION

[NRC-2012-0001]

License Renewal Application for Callaway Plant, Unit 1

AGENCY: Nuclear Regulatory Commission.

ACTION: Draft supplemental generic environmental impact statement; issuance, public meeting, and request for comment; correction.

SUMMARY: This document corrects a notice appearing in the Federal Register on February 24, 2014 (79 FR 10200; FR Doc. 2014-03845). This action is necessary to correct an erroneous date for submission of comments.

FOR FURTHER INFORMATION CONTACT: Carmen Fells, Office of Nuclear Reactor Regulation, U.S. Nuclear Regulatory Commission, Washington, DC 20555-0001, telephone: 301-415-6337 or by email at Carmen.Fells@nrc.gov.

SUPPLEMENTARY INFORMATION:

Correction

In Fr. Doc. 2014-03845, on page 10200, in the first column, in the DATES: section, the date is changed from “April 10, 2014,” to read “April 7, 2014.” This change is necessary in order to coincide with the comment expiration date noted in the U.S. Environmental Protection Agency's notice appearing in the Federal Register on February 21, 2014 (79 FR 9898; FR Doc. 2014-03726).

Dated at Rockville, Maryland, this 26th day of February, 2014.
For the Nuclear Regulatory Commission.
Cindy Bladey,
Chief, Rules, Announcements, and Directives Branch, Division of Administrative Services, Office of Administration.

[FR Doc. 2014-04582 Filed 2-28-14; 8:45 am]

BILLING CODE 7590-01-P